ENVIRONMENTAL PROTECTION AGENCY

[FRL-9613-9]

San Fernando Valley Area 2; Notice of Proposed Administrative Order on Consent Re: 4057 and 4059 Goodwin Avenue, Los Angeles, CA

AGENCY: Environmental Protection Agency (EPA).

ACTION: Notice; request for public comment.

SUMMARY: The EPA is hereby providing notice of a proposed administrative order on consent (Agreement)with the Spirito Family Trust and Alice C. Clarno, Trustee, concerning 4057 and 4059 Goodwin Avenue, Los Angeles, California (Property). The Agreement is entered into pursuant to the Comprehensive Environmental Response, Compensation, and Liability Act of 1980, as amended (CERCLA), 42 U.S.C. 9601, et seq. The Agreement provides for a settlement with the Trust on ability to pay grounds. Under the Agreement, the Trust will pay $1500 (one thousand five hundred dollars) to EPA in settlement of its potential liability for contamination at the Property.

DATES: EPA will receive written comments relating to the settlement until January 30, 2012. EPA will consider all comments it receives during this period, and may modify or withdraw consent to the settlement if any comments disclose facts or considerations indicating that the settlement is inappropriate, improper, or inadequate.

A copy of the settlement document may be obtained by calling the Region IX Superfund Records Center at (415) 820-4700 and requesting a copy of the document.

ADDRESSES: Written comments should be addressed to Marie Rongone, U.S. Environmental Protection Agency Region IX, 75 Hawthorne Street (mail code ORC-3), San Francisco, California 94105-3901, or may be faxed to her at (415) 947-3570 or sent by email to Rongone.Marie@epa.gov.

FOR FURTHER INFORMATION CONTACT: Additional information about the Proposed Administrative Order on Consent re 4057 and 4059 Goodwin Avenue, Los Angeles, California, may be obtained by calling Marie Rongone at (415) 972-3891 or Lisa Hanusiak at (415) 972-3152.

Dated: December 20, 2011.
Kathleen Salyer,
Acting Director, Superfund Division, U.S. EPA Region IX.

[FR Doc. 2011-33467 Filed 12-28-11; 8:45 am]

BILLING CODE 6560-50-P